DEPARTMENT OF THE INTERIOR

Minerals Management Service

30 CFR Parts 250 and 282

RIN 1010-AC47

Oil and Gas and Sulphur Operations in the Outer Continental Shelf—Plans and Information

AGENCY: Minerals Management Service (MMS), Interior.

ACTION: Final rule; delay of effective date.

SUMMARY: MMS is delaying until January 1, 2006, the effective date of a rule that regulates plans and information that lessees and operators must submit in connection with oil and gas exploration, development and production on the Outer Continental Shelf (OCS). This delay is necessary because of damage in the New Orleans area caused by Hurricane Katrina and subsequent flooding. This temporary delay will provide relief to the government and the oil and gas industry as they recover from this disaster.

EFFECTIVE DATE: The effective date of the rule amending 30 CFR Parts 250 and 282 published at 70 FR 51478, August 30, 2005, is delayed until January 1, 2006.

FOR FURTHER INFORMATION CONTACT: Kumkum Ray, Offshore Regulatory Programs (703) 787-1604.

SUPPLEMENTARY INFORMATION: The rule on Plans and Information that was published in the Federal Register on August 30, 2005 (70 FR 51478) provides that MMS will also publish a Notice to Lessees (NTL) to provide further guidance. The primary office responsible for developing the NTL, the MMS Gulf of Mexico Regional Office in New Orleans, Louisiana, has been temporarily moved since Hurricane Katrina and the flooding that followed that disaster. While critical functions have been continuously maintained, a portion of the associated staff and systems are expected to require two months to become fully functional. Moreover, many of the lessees and operators subject to the rule are similarly engaged in the restoration of normal operations following Hurricane Katrina. Lessees and operators will be making changes in their own procedures to comply with the rule. Lessees and operators whose operations have been interrupted as a result of the hurricane may not be able to make these changes until normal operations resume. Accordingly, the Department of the Interior is postponing the effective date of the final rule and the accompanying NTL until January 1, 2006.

Dated: September 23, 2005.
Chad Calvert,
Assistant Secretary—Land and Minerals Management.

[FR Doc. 05-19532 Filed 9-28-05; 8:45 am]

BILLING CODE 4310-MR-P